DEPARTMENT OF DEFENSE

Defense Acquisition Regulations System

48 CFR Parts 217 and 219

Defense Federal Acquisition Regulation Supplement; Technical Amendments

AGENCY: Defense Acquisition Regulations System, Department of Defense (DoD).

ACTION: Final rule.

SUMMARY: DoD is making technical amendments to the Defense Federal Acquisition Regulation Supplement (DFARS) to provide needed editorial changes.

DATES: Effective November 13, 2014.

FOR FURTHER INFORMATION CONTACT: Mr. Manuel Quinones, Defense Acquisition Regulations System, OUSD(AT&L)DPAP(DARS), Room 3B941, 3060 Defense Pentagon, Washington, DC 20301-3060. Telephone 571-372-6088; facsimile 571-372-6094.

SUPPLEMENTARY INFORMATION: This final rule amends the DFARS as follows:

1. Directs contracting officers to additional procedures and guidance by adding references at 217.207 to DFARS PGI 217.207.

2. Corrects paragraph designation at 219.201.

List of Subjects in 48 CFR Parts 217 and 219

Government procurement.

Manuel Quinones,
Editor, Defense Acquisition Regulations System.

Therefore, 48 CFR parts 217 and 219 are amended as follows:

1. The authority citation for 48 CFR parts 217 and 219 continues to read as follows:

Authority: 41 U.S.C. 1303 and 48 CFR chapter 1.

PART 217—SPECIAL CONTRACTING METHODS

2. Revise section 217.207 to read as follows:

217.207 Exercise of options.

(c) In addition to the requirements at FAR 17.207(c), exercise an option only after determining that the contractor's record in the System for Award Management database is active and the contractor's Data Universal Numbering System (DUNS) number, Commercial and Government Entity (CAGE) code, name, and physical address are accurately reflected in the contract document. See PGI 217.207 for the requirement to perform cost or price analysis of spare parts prior to exercising any option for firm-fixed-price contracts containing spare parts.

PART 219—SMALL BUSINESS PROGRAMS

219.201 [Amended]

3. Amend section 219.201 by redesignating paragraphs (d) and (e) as paragraphs (c) and (d) respectively.

[FR Doc. 2014-26599 Filed 11-12-14; 8:45 am]

BILLING CODE 5001-06-P